FEDERAL COMMUNICATIONS COMMISSION

47 CFR Part 73

[DA 01-1322, MM Docket No. 00-114, RM-9744]

Digital Television Broadcast Service; Great Falls, MT

AGENCY: Federal Communications Commission.

ACTION: Final rule.

SUMMARY: The Commission, at the request of KFBB Corporation, L.L.C., licensee of station KFBB-TV, substitutes DTV channel 8 for DTV channel 39 at Great Falls, Montana. See 66 FR 41036, July 3, 2000. DTV channel 8 can be allotted to Great Falls in compliance with the principle community coverage requirements of Section 73.625(a) at reference coordinates (47-32-08 N. and 111-17-02 W.) with a power of 28.0, HAAT of 180 meters and with a DTV service population of 89 thousand. Since the community of Great Falls is located within 400 kilometers of the U.S.-Canadian border, concurrence by the Canadian has been obtained for this allotment. With is action, this proceeding is terminated.

DATES: Effective July 23, 2001.

FOR FURTHER INFORMATION CONTACT: Pam Blumenthal, Mass Media Bureau, (202) 418-1600.

SUPPLEMENTARY INFORMATION: This is a synopsis of the Commission's Report and Order, MM Docket No. 00-114, adopted June 1, 2001, and released June 6, 2001. The full text of this Commission decision is available for inspection and copying during normal business hours in the FCC Reference Center 445 12th Street, SW., Washington, DC. The complete text of this decision may also be purchased from the Commission's copy contractor, International Transcription Services, Inc., (202) 857-3800, 1231 20th Street, NW, Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Montana, is amended by removing DTV channel 39 and adding DTV channel 8 at Great Falls.

Federal Communications Commission.
Barbara A. Kreisman,
Chief, Video Services Division, Mass Media Bureau.

[FR Doc. 01-14743 Filed 6-11-01; 8:45 am]

BILLING CODE 6712-01-U